STATE JUSTICE INSTITUTE

SJI Board of Directors Meeting, Notice

AGENCY: State Justice Institute.

ACTION: Notice of meeting.

SUMMARY: The SJI Board of Directors will be meeting on Monday, November 16, 2015 at 1:00 p.m. The meeting will be held at the Supreme Court of Louisiana in New Orleans, Louisiana. The purpose of this meeting is to consider grant applications for the 1st quarter of FY 2016, and other business. All portions of this meeting are open to the public.

ADDRESSES: Supreme Court of Louisiana, 400 Royal Street, 4th Floor Conference Room, New Orleans, LA 70130.

FOR FURTHER INFORMATION CONTACT: Jonathan Mattiello, Executive Director, State Justice Institute, 11951 Freedom Drive, Suite 1020, Reston, VA 20190, 571-313-8843, contact@sji.gov.

Jonathan D. Mattiello,
Executive Director.

[FR Doc. 2015-27424 Filed 10-27-15; 8:45 am]

BILLING CODE P